DEPARTMENT OF TRANSPORTATION

Federal Highway Administration

[Docket No. FHWA-2011-0085]

Agency Information Collection Activities: Notice of request for approval of a new information collection

AGENCY: Federal Highway Administration (FHWA), DOT.

ACTION: Notice of request for approval of a new information collection.

SUMMARY: The FHWA invites public comments about our intention to request the Office of Management and Budget's (OMB) approval of a new information collection that is summarized below under SUPPLEMENTARY INFORMATION. We are required to publish this notice in the Federal Register by the Paperwork Reduction Act of 1995.

DATES: Please submit comments by November 7, 2011.

ADDRESSES: You may submit comments identified by DOT Docket ID Number 2011-0085 by any of the following methods:

Web Site: For access to the docket to read background documents or comments received, go to the Federal eRulemaking Portal: http://www.regulations.gov. Follow the online instructions for submitting comments.

Fax: 1-202-493-2251.

Mail: Docket Management Facility, U.S. Department of Transportation, West Building Ground Floor, Room W12-140, 1200 New Jersey Avenue, SE., Washington, DC 20590.

Hand Delivery or Courier: U.S. Department of Transportation, West Building Ground Floor, Room W12-140, 1200 New Jersey Avenue, SE., Washington, DC 20590, between 9 a.m. and 5 p.m. ET, Monday through Friday, except Federal holidays.

FOR FURTHER INFORMATION CONTACT: Lori Fields, 850-553-2204, Florida Field Office, Federal Highway Administration, Department of Transportation, 545 John Knox Road Suite 200, Tallahassee, FL 32310, Monday through Friday, except Federal holidays.

SUPPLEMENTARY INFORMATION:

Title: FHWA Exceptional Partnership Workshop Climate Survey.

Type of request: New information collection requirement.

Background: The Federal Highway Administration (FHWA) values the long-standing relationship it shares with the State Departments of Transportation (DOT) throughout the country. These relationships provide significant and considerable benefits to citizens of the respective States in the form of a world-class transportation system. There have been substantial changes to our business including funding, the workforce, State and National policy dynamics and the systems used to deliver products and services to the public. What has not changed is the compelling need for a strong and enduring partnership between the FHWA and the State DOTs to ensure the safety and integrity of our highways and bridges.

The FHWA has initiated a series of workshops entitled “Exceptional Partnerships” that are designed to assist its Division Administrators to create and sustain “exceptional” partnerships with their State DOTs. As part of these workshops, the FHWA proposes to use a short pre-workshop climate survey to assess the partnership of FHWA Division Administrators and their counterparts at State DOTs, the result of which will be used in the design and delivery of these workshops. The purpose of the short climate survey is to determine: (1) The perspective of the State DOT partners regarding the effectiveness of the partnerships with FHWA Divisions, (2) the factors that contribute to successful relationships, (3) the successes of and challenges to these partnerships, and (4) recommendations for improvements.

FHWA will hire independent contractors to conduct informal phone interviews, approximately thirty minutes in length, with the State DOT counterpart to the participating FHWA's Division Administrators. The contractor will manage the documentation of interview notes. Individual responses will be held in strict confidence. A summary of aggregate data will be provided to the Workshop Design Team to assist in the preparation of workshop content and materials. Quantitative and qualitative data will be gathered and analyzed to show averages, ranges, and trends. A general report of findings will be shared with participants in the workshop, but no specific answers will be shared.

Respondents: 42 State DOT's Chief Executive Officers (8 participants were interviewed previously).

Frequency: 14 respondents will be interviewed annually for three years. This is a one-time collection.

Estimated Average Burden per Response: It will take approximately 30 minutes per participant.

Estimated Total Annual Burden Hours: Approximately 7 hours annually (21 hours total over 3 years).

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: August 30, 2011.
Judith Kane,
Acting Chief, Management Programs and Analysis Division.

[FR Doc. 2011-22670 Filed 9-6-11; 8:45 am]

BILLING CODE 4910-22-P